DEPARTMENT OF COMMERCE

National Oceanic and Atmospheric Administration

RIN 0648-XF59

Endangered Species; File No. 10115

AGENCY: National Marine Fisheries Service (NMFS), National Oceanic and Atmospheric Administration (NOAA), Commerce.

ACTION: Notice; receipt of application.

SUMMARY: Notice is hereby given that Dr. Douglas Peterson, University of Georgia, Warnell School of Forest Resources, Athens, GA 30602, has applied in due form for a permit to take shortnose sturgeon (Acipenser brevirostrum) for purposes of scientific research.

DATES: Written, telefaxed, or e-mail comments must be received on or before March 24, 2008.

ADDRESSES: The application and related documents are available for review upon written request or by appointment in the following offices:

Permits, Conservation and Education Division, Office of Protected Resources, NMFS, 1315 East-West Highway, Room 13705, Silver Spring, MD 20910; phone (301)713-2289; fax (301)713-0376; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10115.

FOR FURTHER INFORMATION CONTACT: Brandy Belmas or Malcolm Mohead, (301)713-2289.

SUPPLEMENTARY INFORMATION: The subject permit is requested under the authority of the Endangered Species Act of 1973, as amended (ESA; 16 U.S.C. 1531 et seq.), and the regulations governing the taking, importing, and exporting of endangered and threatened species (50 CFR 222-226).

Dr. Douglas Peterson is seeking a five-year scientific research permit to conduct a presence/absence study of shortnose sturgeon in the St. Marys and Satilla Rivers, Georgia. The purpose of the proposed research is to assess the current status of shortnose sturgeon in these rivers, as well as evaluate the current habitat availability in each river. If shortnose sturgeon are found, another objective of the proposed research would be to quantify the genetic discreteness and effective population size of the extant stock. The applicant is requesting to capture (by anchored gill or trammel nets), measure, weigh, PIT tag, fin clip, and fin ray sample 73 shortnose sturgeon annually from each river. Blood samples would be collected from another 12 fish from each river annually, and internal radio tags would be implanted in a total of 10 fish from each river over the life of the permit.

Those fish that have blood collected and internal tags implanted would also be anesthetized and have their sex determined using laparoscopic procedures. Up to 20 eggs and larvae from each river would be collected by egg mats annually. A total of one unintentional mortality, for both rivers combined, is being requested each year.

Dated: February 14, 2008.
Tammy C. Adams,
Acting Chief, Permits, Conservation and Education Division, Office of Protected Resources, National Marine Fisheries Service.

[FR Doc. E8-3258 Filed 2-20-08; 8:45 am]

BILLING CODE 3510-22-S